DEPARTMENT OF THE INTERIOR

National Park Service

National Register of Historic Places; Notification of Pending Nominations and Related Actions

Nominations for the following properties being considered for listing or related actions in the National Register were received by the National Park Service before March 22, 2008. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington, DC 20005; or by fax, 202-371-6447. Written or faxed comments should be submitted by April 21, 2008.

J. Paul Loether,
Chief, National Register of Historic Places/National Historic Landmarks Program.

CALIFORNIA

San Diego County

Black, William, House—SDM-W-12 Locus A (CA-SDI-4669), Address Restricted, La Jolla, 08000343

COLORADO

Chaffee County

Bode—Stewart House, 803 F St., Salida, 08000344

Park County

Trout Creek—Annex—Settele Ranch, (Ranching Resources of South Park, Colorado MPS), 3242 Co. Rd. 7, Fairplay, 08000345

DISTRICT OF COLUMBIA

District of Columbia

Garden Club of America Entrance Marker at Georgia Avenue, (Garden Club of America Entrance Markers in Washington, D.C. MPS) Georgia Ave. at Kalmia Rd. & Alaska Ave., Washington, 08000347

Garden Club of America Entrance Markers at Chevy Chase Circle, (Garden Club of America Entrance Markers in Washington, D.C. MPS), Reservation 335A, Washington, 08000346

Garden Club of America Entrance Markers at Westmoreland Circle, (Garden Club of America Entrance Markers in Washington, D.C. MPS), Reservation 559, Washington, 08000348

GEORGIA

Barrow County

Carlyle—Blakey Farm, 568 GA 211 NW., Winder, 08000353

Chatham County

Mulherin—Righton Raised Tybee Cottage, 14 8th Pl., Tybee Island, 08000349

Fulton County

Glenn Building, 110 Marietta St., Atlanta, 08000350

Memorial to the Six Million, 1173 Cascade Ave. SW., Atlanta, 08000351

Pickens County

Pickens County Courthouse, 50 N. Main St., Jasper, 08000352

Polk County

Northwest Cedartown Historic District, Roughly bounded by Jule Peek Ave., Spruce St., Wissahickon Ave., & Marshall St., Cedartown, 08000354

Tift County

Tifton Residential Historic District, Roughly Bounded by 14th, Goff, & 2nd Sts. & Forrest Ave., Tifton, 08000355

IOWA

Muscatine County

West Hill Historic District, (Muscatine, Iowa MPS AD), Roughly bounded by W. 2nd St. from Pine to Ash, W 3rd St. & W. 4th St. from Chestnut to near Ash, Muscatine, 08000356

Pottawattamie County

Pioneer Implement Company, 1000 S. Main St., Council Bluffs, 08000357

MARYLAND

Baltimore Independent City

Riverside Historic District, Bounded by Race St from W. S to Winder, E. to Webster, N. to Heath, E. to Boyle & N. to Fort then W. to Marshall, Baltimore (Independent City), 08000358

MISSOURI

St. Louis Independent City

Coca-Cola Syrup Plant, 8125 Michigan Ave., St. Louis (Independent City), 08000359

Judson, Frederick Newton, House, 3733 Washington Ave., St. Louis (Independent City), 08000360

NEW JERSEY

Mercer County

Golden Swan—True American, 101—107 S. Warren St., Trenton, 08000361

Trenton Friends Meeting House, 142 E. Hanover St., Trenton, 08000362

Middlesex County

First Presbyterian Church and Cemetery, 600 Rahway Ave., Woodbridge, 08000363

Morris County

Methodist Episcopal Church, 24 Madison Ave., Madison, 08000364

NORTH CAROLINA

Bladen County

Carver's Creek Methodist Church, 16904 NC 87 E., Council, 08000365

Buncombe County

Monte Vista Hotel, 308 W. State St., Black Mountain, 08000366

Caswell County

Malone, James, House, 7374 U.S. 158, Leasburg, 08000367

Macon County

Harbison, Thomas Grant, House, 2930 Walhalla Rd., Highlands, 08000368

Wilkes County

Wilkes Hosiery Mills, 407 F. St., North Wilkesboro, 08000369

WISCONSIN

Dane County

Jensvold, Gulbrand and Bertha, House, 1033 WI 78, Perry, 08000370

[FR Doc. E8-7117 Filed 4-3-08; 8:45 am]

BILLING CODE 4310-70-P